DEPARTMENT OF ENERGY

Federal Energy Regulatory Commission

[Docket No. RP96-312-074]

Tennessee Gas Pipeline Company; Notice of Errata Filing

June 20, 2002.

Take notice that on June 6, 2002, Tennessee Gas Pipeline Company (Tennessee), tendered for filing an amended service agreement to replace an incorrect service agreement that was filed on June 4, 2002 as part of a May 31, 2002 Negotiated Rate Arrangement with Ocean State Power.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16119 Filed 6-25-02; 8:45 am]

BILLING CODE 6717-01-P